DEPARTMENT OF HOMELAND SECURITY

Federal Emergency Management Agency

[Docket ID FEMA-2025-0002; Internal Agency Docket No. FEMA-B-2503]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Kristin E. Fontenot,
Assistant Administrator, Risk Analysis, Planning & Information Directorate Federal Emergency Management Agency, Department of Homeland Security.

State and county | Location and case No. | Chief executive officer of community | Community map repository | Online location of letter of map revision | Date of modification | Community No.
Arizona:
Maricopa | City of Avondale (24-09-0727P). | Ron Corbin, Manager, City of Avondale, 11465 West Civic Center Drive, Avondale, AZ 85323. | City Hall, 11465 West Civic Center Drive, Avondale, AZ 85323. | https://msc.fema.gov/portal/advanceSearch. | Apr. 25, 2025 | 040038
Maricopa | City of Buckeye (24-09-0928P). | The Honorable Eric Orsborn, Mayor, City of Buckeye, 530 East Monroe Avenue, Buckeye, AZ 85326. | City Hall, 530 East Monroe Avenue, Buckeye, AZ 85326. | https://msc.fema.gov/portal/advanceSearch. | Apr. 15, 2025 | 040039
Maricopa | Unincorporated Areas of Maricopa County (24-09-0928P). | Jack Sellers, Chair, Maricopa County, Board of Supervisors, 301 West Jefferson Street, Phoenix, AZ 85003. | Maricopa County, Flood Control District, 2801 West Durango Street, Phoenix, AZ 85009. | https://msc.fema.gov/portal/advanceSearch. | Apr. 15, 2025 | 040037
California:
Orange | City of San Juan Capistrano (24-09-1063P). | The Honorable Sergio Farias, Mayor, City of San Juan Capistrano, 30448 Rancho Viejo Road, Suite 110, San Juan Capistrano, CA 92675. | City Hall, 30448 Rancho Viejo Road, Suite 110, San Juan Capistrano, CA 92675. | https://msc.fema.gov/portal/advanceSearch. | May 9, 2025 | 060231
Riverside | City of Desert Hot Springs (23-09-1297P). | The Honorable Scott Matas, Mayor, City of Desert Hot Springs, 11999 Palm Drive, Desert Hot Springs, CA 92240. | City Hall, 11999 Palm Drive, Desert Hot Springs, CA 92240. | https://msc.fema.gov/portal/advanceSearch. | Apr. 22, 2025 | 060251
Riverside | City of Hemet (23-09-1268P). | The Honorable Joe Males, Mayor, City of Hemet, 445 East Florida Avenue, Hemet, CA 92543. | Public Works Engineering Division, 445 East Florida Avenue, Hemet, CA 92543. | https://msc.fema.gov/portal/advanceSearch. | Apr. 28, 2025 | 060253
Riverside | City of Riverside (23-09-1341P). | The Honorable Patricia Lock Dawson, Mayor, City of Riverside, 3900 Main Street, Riverside, CA 92522. | City Hall, 3900 Main Street, Riverside, CA 92522. | https://msc.fema.gov/portal/advanceSearch. | Apr. 29, 2025 | 060260
Riverside | City of Riverside (23-09-1373P). | The Honorable Patricia Lock Dawson, Mayor, City of Riverside, 3900 Main Street, Riverside, CA 92522. | City Hall, 3900 Main Street Riverside, Riverside, CA 92522. | https://msc.fema.gov/portal/advanceSearch. | Apr. 28, 2025 | 060260
Riverside | Unincorporated Areas of Riverside County (23-09-1268P). | Chuck Washington, Chair, Riverside County Board of Supervisors, 4080 Lemon Street, 5th Floor, Riverside, CA 92502. | Riverside County Flood Control and Water, Conservation District, 1995 Market Street, Riverside, CA 92501. | https://msc.fema.gov/portal/advanceSearch. | Apr. 28, 2025 | 060245
Colorado:
Arapahoe | City of Centennial (24-08-0630X). | The Honorable Stephanie Piko, Mayor, City of Centennial, 13133 East Arapahoe Road, Centennial, CO 80112. | Southeast Metro Stormwater Authority, 7437 South Fairplay Street, Centennial, CO 80112. | https://msc.fema.gov/portal/advanceSearch. | Mar. 28, 2025 | 080315
Boulder | City of Boulder (24-08-0332P). | The Honorable Aaron Brockett, Mayor, City of Boulder, 1777 Broadway, Boulder, CO 80302. | Park Central, 1739 Broadway, 3rd Floor, Boulder, CO 80302. | https://msc.fema.gov/portal/advanceSearch. | Apr. 23, 2025 | 080024
Boulder | Unincorporated Areas of Boulder County (24-08-0332P). | Ashley Stolzmann, Chair, Boulder County, Board of Commissioners, P.O. Box 471, Boulder, CO 80306. | Boulder County Community, Planning & Permitting Building, 2045 13th Street, Boulder, CO 80302. | https://msc.fema.gov/portal/advanceSearch. | Apr. 23, 2025 | 080023
Douglas | Unincorporated Areas of Douglas County (23-08-0736P). | George Teal, Chair, Douglas County, Board of Commissioners, 100 3rd Street, Castle Rock, CO 80104. | Douglas County, Public Works, Department, 100 3rd Street, Castle Rock, CO 80104. | https://msc.fema.gov/portal/advanceSearch. | Apr. 11, 2025 | 080049
Larimer | Unincorporated Areas of Larimer County (24-08-0303P). | John Kefalas, Chair, Larimer County, Board of Commissioners, P.O. Box 1190, Fort Collins, CO 80522. | Larimer County Courthouse Offices Building, 200 West Oak Street, Suite 300, Fort Collins, CO 80521. | https://msc.fema.gov/portal/advanceSearch. | Apr. 15, 2025 | 080101
Routt | City of Steamboat Springs (24-08-0070P). | Gary Suiter, Manager, City of Steamboat Springs, P.O. Box 775088, Steamboat Springs, CO 80477. | City Hall, 124 10th Street, Steamboat Springs, CO 80477. | https://msc.fema.gov/portal/advanceSearch. | Apr. 21, 2025 | 080159
Weld | City of Greeley (24-08-0261X). | The Honorable John Gates, Mayor, City of Greeley, 1000 10th Street, Greeley, CO 80631. | City Center East, 1000 10th Street, Greeley, CO 80631. | https://msc.fema.gov/portal/advanceSearch. | Mar. 31, 2025 | 080184
Weld | Town of Kersey (24-08-0261X). | The Honorable Gary Lagrimanta, Mayor, Town of Kersey, P.O. Box 657, Kersey, CO 80644. | Town Hall, 446 1st Street, Kersey, CO 80644. | https://msc.fema.gov/portal/advanceSearch. | Mar. 31, 2025 | 080185
Weld | Unincorporated Areas of Weld County (24-08-0261X). | Kevin Ross, Chair, Weld County, Board of Commissioners, P.O. Box 758, Greeley, CO 80632. | Weld County Administrative Building, 1150 O Street, Greeley, CO 80631. | https://msc.fema.gov/portal/advanceSearch. | Mar. 31, 2025 | 080266
Washington: Cowlitz | Unincorporated Areas of Cowlitz County (24-10-0479P). | Richard Dahl, Chair, Cowlitz County, Board of Commissioners, 207 4th Avenue North, Room 305, Kelso, WA 98626. | Cowlitz County Building and Planning, 207 4th Avenue North, Room 119, Kelso, WA 98626. | https://msc.fema.gov/portal/advanceSearch. | Apr. 16, 2025 | 530032

[FR Doc. 2025-02981 Filed 2-21-25; 8:45 am]

BILLING CODE 9110-12-P